DEPARTMENT OF JUSTICE

Notice of Lodging of Consent Decree Under the Clean Air Act

Notice is hereby given that on May 16, 2012, a proposed Consent Decree in United States et al. v. Questar Gas Management Co., Civil Action No. 2:08-cv-00167-TS-PMW, was lodged with the United States District Court for the District of Utah.

In this action the United States seeks civil penalties and injunctive relief for alleged violations of the Clean Air Act (“CAA”), 42 U.S.C. 7401 et seq., at five compressor stations Questar Gas Management Co., now known as QEP Field Services Co. (“QEPFS”) owns and operates in Uintah County, Utah. Specifically, the United States alleges that QEPFS constructed, modified, and operated the compressor stations in northeastern Utah without complying with: (a) The National Emissions Standards for Hazardous Air Pollutants applicable to oil and natural gas production facilities, 40 CFR part 63, Subpart HH and Subpart ZZZZ; (b) the pre-construction Prevention of Significant Deterioration program, set forth at 42 U.S.C. 7470-7492 and 40 CFR 52.21; and (c) the post-construction federal operating permits program set forth at Title V of the CAA, 42 U.S.C. 7661-7661f and 40 CFR part 71. The proposed consent decree would require QEPFS to pay a civil penalty of $3,650,000, pay $350,000 to a Tribal Clean Air Trust Fund, and perform other specified injunctive relief.

The Department of Justice will receive, for a period of thirty (30) days from the date of this publication, comments relating to the proposed settlement agreement. Comments should be addressed to the Assistant Attorney General for the Environment and Natural Resources Division, and either emailed to pubcomment-ees.enrd@usdoj.gov or mailed to P.O. Box 7611, U.S. Department of Justice, Washington, DC 20044-7611, and should refer to United States et al. v. Questar Gas Management Co., Civil Action No. 2:08-cv-00167-TS-PMW, and D.J. Ref. No. 90-5-2-1-08432.

During the public comment period, the settlement agreement may be examined on the following Department of Justice Web site, http://www.usdoj.gov/enrd/Consent_Decrees.html. A copy of the settlement agreement may also be obtained by mail from the Consent Decree Library, P.O. Box 7611, U.S. Department of Justice, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $11.00 ($.25 per page) payable to the U.S. Treasury or, if by email or fax, forward a check in that amount to the Consent Decree Library at the address given above.

Robert Brook,
Assistant Chief, Environmental Enforcement Section, Environment and Natural Resources Division.

[FR Doc. 2012-12476 Filed 5-22-12; 8:45 am]

BILLING CODE 4410-15-P